DEPARTMENT OF AGRICULTURE

Submission for OMB Review; Comment Request

September 15, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Request for Aerial Photography.

OMB Control Number: 0560-0176.

Summary of Collection: The Farm Service Agency (FSA) Aerial Photography Field Office (APFO) has the authority to coordinate aerial photography work in USDA, develop and carry out aerial photography and remote sensing programs and the Agency's aerial photography flying contract programs. The film APFO secures is public domain and reproductions are available at cost to any customer with a need. FSA will collect information using the following three forms: FSA-441, Request for Aerial Imagery, FSA 441B, Customer Digital Print Form, and FSA 441C, APFO Service Quality Survey.

Need and Use of the Information: FSA will collect the name, address, contact name, telephone, fax, e-mail, customer code, agency code, purchase order number, credit card number/exp. date and amount remitted/PO amount. Customers have the option of placing orders by mail, fax, telephone, and walk-in. Furnishing this information requires the customer to research and prepare their request before submitting it to APFO.

Description of Respondents: Farms; Individuals or household; Business or other for-profit; Federal Government; State, Local or Tribal Government; Not-for-profit institutions.

Number of Respondents: 6,300.

Frequency of Responses: Recordkeeping; Reporting; Annually; Other (when ordering).

Total Burden Hours: 3,770.

Ruth Brown,
Departmental Information Collection Clearance Officer.

[FR Doc. E9-22565 Filed 9-17-09; 8:45 am]

BILLING CODE 3410-05-P